DEPARTMENT OF TRANSPORTATION

Office of the Secretary

Aviation Proceedings, Agreements Filed During the Week Ending July 5, 2002

The following Agreements were filed with the Department of Transportation under the provisions of 49 U.S.C. Section 412 and 414. Answers may be filed within 21 days after the filing of the application.

Docket Number: OST-2002-12698.

Date Filed: July 1, 2002.

Parties: Members of the International Air Transport Association.

Subject: PTC2 ME 0107 dated 28 June 2002, TC2 Within Middle East Expedited Resolution 002oo, Intended effective date: 15 August 2002.

Dorothy Y. Beard,
Federal Register Liaison.

[FR Doc. 02-17748 Filed 7-12-02; 8:45 am]

BILLING CODE 4910-62-P